DEPARTMENT OF HOMELAND SECURITY

U.S. Customs and Border Protection

[1651-0111]

Agency Information Collection Activities: Arrival and Departure Record (Forms I-94 and I-94W) and Electronic System for Travel Authorization

AGENCY: U.S. Customs and Border Protection, Department of Homeland Security.

ACTION: 60-Day Notice and request for comments; extension and revision of an existing collection of information.

SUMMARY: U.S. Customs and Border Protection (CBP) of the Department of Homeland Security (DHS) will be submitting the following information collection request to the Office of Management and Budget (OMB) for review and approval in accordance with the Paperwork Reduction Act: CBP Form I-94 (Arrival/Departure Record), CBP Form I-94W (Nonimmigrant Visa Waiver Arrival/Departure), and the Electronic System for Travel Authorization (ESTA). CBP is proposing that this information collection be extended with a change to the burden hours and a revision to the information collected. This document is published to obtain comments from the public and affected agencies.

DATES: Written comments should be received on or before February 9, 2015 to be assured of consideration.

ADDRESSES: Direct all written comments to U.S. Customs and Border Protection, Attn: Tracey Denning, Regulations and Rulings, Office of International Trade, 90 K Street NE., 10th Floor, Washington, DC 20229-1177.

FOR FURTHER INFORMATION CONTACT: Requests for additional information should be directed to Tracey Denning, U.S. Customs and Border Protection, Regulations and Rulings, Office of International Trade, 90 K Street NE 10th Floor, Washington, DC 20229-1177, at 202-325-0265.

SUPPLEMENTARY INFORMATION: CBP invites the general public and other Federal agencies to comment on proposed and/or continuing information collections pursuant to the Paperwork Reduction Act of 1995 (Public Law 104-13; 44 U.S.C. 3507). The comments should address: (a) Whether the collection of information is necessary for the proper performance of the functions of the agency, including whether the information shall have practical utility; (b) the accuracy of the agency's estimates of the burden of the collection of information; (c) ways to enhance the quality, utility, and clarity of the information to be collected; (d) ways to minimize the burden including the use of automated collection techniques or the use of other forms of information technology; and (e) the annual cost burden to respondents or record keepers from the collection of information (total capital/startup costs, and operations and maintenance costs). The comments that are submitted will be summarized and included in the CBP request for OMB approval. All comments will become a matter of public record. In this document, CBP is soliciting comments concerning the following information collection:

Title: Arrival and Departure Record, Nonimmigrant Visa Waiver Arrival/Departure, and Electronic System for Travel Authorization (ESTA).

OMB Number: 1651-0111.

Form Numbers: I-94 and I-94W.

Abstract:

Background

CBP Forms I-94 (Arrival/Departure Record) and I-94W (Nonimmigrant Visa Waiver Arrival/Departure Record) are used to document a traveler's admission into the United States. These forms are filled out by aliens and are used to collect information on citizenship, residency, and contact information. The data elements collected on these forms enable the DHS to perform its mission related to the screening of alien visitors for potential risks to national security, and the determination of admissibility to the United States. The Electronic System for Travel Authorization (ESTA) applies to aliens traveling to the United States under the Visa Waiver Program (VWP) and requires that VWP travelers provide information electronically to CBP before embarking on travel to the United States. Travelers who are entering under the VWP in the air or sea environment, and who have a travel authorization obtained through ESTA, are not required to complete the paper Form I-94W.

Pursuant to an interim final rule published on March 27, 2013 in the Federal Register (78 FR 18457) related to Form I-94, CBP has partially automated the Form I-94 process. CBP now gathers data previously collected on the paper Form I-94 from existing automated sources in lieu of requiring passengers arriving by air or sea to submit a paper I-94 upon arrival. Passengers can access and print their electronic I-94 via the Web site at www.cbp.gov/I94.

ESTA can be accessed at http://www.cbp.gov/xp/cgov/travel/id_visa/esta/. Samples of CBP Forms I-94 and I-94W can be viewed at: http://www.cbp.gov/document/forms/form-i-94-arrivaldeparture-record and http://www.cbp.gov/document/forms/form-i-94w-visa-waiver-arrivaldeparture-record.

Recent and Proposed Changes

In response to the increasing concerns regarding national security, DHS used the emergency Paperwork Reduction Act process to strengthen the security of the VWP by adding data elements to ESTA and to Form I-94W. DHS determined that the addition of these new data elements improves the Department's ability to screen prospective VWP travelers while more accurately and effectively identifying those who pose a security risk to the United States and facilitates adjudication of ESTA applications.

The following data elements are either new elements that were approved in the emergency PRA submission or data elements that were collected previously that were changed from “optional” to “mandatory” on the ESTA application:

1 | Other Names or Aliases | Mandatory.
2 | Other Country of Citizenship | Mandatory.
3 | If yes, passport number on additional citizenship passport | Optional
4 | Home Address | Mandatory.
5 | Parents | Mandatory.
6 | Current or Previous Job Title | Optional
7 | Current or Previous Employer Name | Mandatory.
8 | Current or Previous Employer Address | Mandatory.
9 | Current or Previous Employer Telephone number | Optional
10 | Primary Email | Mandatory—was optional.
11 | Primary Telephone Number | Mandatory—was optional.
12 | U.S. Point of Contact Name | Mandatory.
13 | U.S. Point of Contact Address | Mandatory.
14 | U.S. Point of Contact Email | Mandatory.
15 | U.S. Point of Contact Phone | Mandatory.
16 | City of Birth | Mandatory.
17 | National Identification Number | Mandatory.
18 | Emergency Point of Contact Information Name | Mandatory.
19 | Emergency Point of Contact Information Email | Mandatory.
20 | Emergency Point of Contact Information Phone | Mandatory.
22 | Do you have a current or previous employer? | Mandatory.
21 | Is your travel to the U.S. occurring in transit to another country? | Mandatory.

For the following “mandatory” fields ESTA applicants are permitted to enter “unknown,” if they do not have or know the information, without impeding the submission of their ESTA application: City of Birth, Parents, National Identification Number, Emergency Contact Information, U.S. Point of Contact information, and Employer Address.

Pursuant to 42 U.S.C. 264(b) and Executive Order 13295, as amended on July 31, 2014, CBP proposes to revise the question on quarantinable communicable diseases as follows:

Currently Approved Question

Do you have a physical or mental disorder; or are you a drug abuser or addict; or currently have any of the following diseases:

• Chancroid

• Gonorrhea

• Granuloma inguinale

• Leprosy, infectious

• Lymphogranuloma venereum

• Syphilis, infectious

• Active Tuberculosis

Proposed New Question

Do you have a physical or mental disorder; or are you a drug abuser or addict; or do you currently have any of the following diseases (communicable diseases are specified pursuant to section 361(b) of the Public Health Service Act):

• Cholera

• Diphtheria

• Tuberculosis, infectious

• Plague

• Smallpox

• Yellow Fever

• Viral Hemorrhagic Fevers, including Ebola, Lassa, Marburg, Crimean-Congo

• Severe acute respiratory illnesses capable of transmission to other persons and likely to cause mortality.

Current Actions: This submission is being made to extend the expiration date with a change to the burden hours based on updated estimates of the numbers of respondents. Specifically, the number of respondents for the I-94 Web site was decreased by 1,188,899 from 5,047,681 to 3,858,782; the number of respondents for the ESTA burden was increased by 870,000 from 22,090,000 to 22,960,000; and the number of respondents paying the ESTA fee was increased by 707,000 from 18,183,000 to 18,890,000.

There is a change to the questions on ESTA and on Form I-94W as described in the Abstract section of this document. There are no changes to the information collected on Form I-94, or the I-94 Web site.

Type of Review: Extension (with change).

Affected Public: Individuals, Carriers, and the Travel and Tourism Industry.

Form I-94 (Arrival and Departure Record):

Estimated Number of Respondents: 4,387,550.

Estimated Time per Response: 8 minutes.

Estimated Burden Hours: 583,544.

Estimated Annual Cost to Public: $26,325,300.

I-94 Web site:

Estimated Number of Respondents: 3,858,782.

Estimated Time per Response: 4 minutes.

Estimated Annual Burden Hours: 254,679.

Form I-94W (Nonimmigrant Visa Waiver Arrival/Departure):

Estimated Number of Respondents: 941,291.

Estimated Time per Response: 13 minutes.

Estimated Annual Burden Hours: 204,260.

Estimated Annual Cost to the Public: $5,647,746.

Electronic System for Travel Authorization (ESTA):

Estimated Number of Respondents: 22,960,000.

Estimated Time per Response: 20 minutes.

Estimated Total Annual Burden Hours: 7,645,680.

Estimated Annual Cost to the Public: $264,460,000.

Dated: December 3, 2014.
Tracey Denning,
Agency Clearance Officer, U.S. Customs and Border Protection.

[FR Doc. 2014-28775 Filed 12-8-14; 8:45 am]

BILLING CODE 9111-14-P